FEDERAL DEPOSIT INSURANCE CORPORATION

Sunshine Act Meeting

Notice of a Matter To Be Deferred From the Agenda for Consideration at an Agency Meeting

Pursuant to the provisions of the “Government in the Sunshine Act” (5 U.S.C. 552b), notice is hereby given that the following matter will be deferred from the “Discussion Agenda” at the open meeting of the Board of Directors of the Federal Deposit Insurance Corporation scheduled to be held at 10:00 a.m. on Tuesday, December 16, 2014, in the Board Room on the fourth floor of the FDIC Building located at 550—17th Street NW., Washington, DC.:

Memorandum and resolution re: Regulatory Capital Rules, Liquidity Coverage Ratio, Proposed Revisions to the Definition of Qualifying Master Netting Agreement and Related Definitions.

Requests for further information concerning the meeting may be directed to Mr. Robert E. Feldman, Executive Secretary of the Corporation, at (202) 898-7043.

Dated: December 15, 2014.
Federal Deposit Insurance Corporation
Robert E. Feldman,
Executive Secretary.

[FR Doc. 2014-29728 Filed 12-16-14; 11:15 am]

BILLING CODE 6714-01-P